DEPARTMENT OF ENERGY

Federal Energy Regulatory Commission

Combined Notice of Filings #1

Take notice that the Commission received the following electric rate filings:

Docket Numbers: ER10-2507-011.

Applicants: Westar Energy, Inc.

Description: Notice of Non-Material Change in Status of Westar Energy, Inc.

Filed Date: 3/29/17.

Accession Number: 20170329-5285.

Comments Due: 5 p.m. ET 4/19/17.

Docket Numbers: ER17-1335-000.

Applicants: Western Massachusetts Electric Company.

Description: § 205(d) Rate Filing: Two Party Interconnection Agreement with Nautilus Hydro for Dwight Hydro to be effective 3/29/2017.

Filed Date: 3/29/17.

Accession Number: 20170329-5236.

Comments Due: 5 p.m. ET 4/19/17.

Docket Numbers: ER17-1336-000.

Applicants: Western Massachusetts Electric Company.

Description: § 205(d) Rate Filing: Two Party Interconnection Agreement with Nautilus Hydro for Gardners Falls to be effective 3/29/2017.

Filed Date: 3/29/17.

Accession Number: 20170329-5245.

Comments Due: 5 p.m. ET 4/19/17.

Docket Numbers: ER17-1337-000.

Applicants: California Independent System Operator Corporation.

Description: § 205(d) Rate Filing: 2017-03-27 Extension of PIRP Protective Measures Amendment to be effective 5/1/2017.

Filed Date: 3/29/17.

Accession Number: 20170329-5249.

Comments Due: 5 p.m. ET 4/19/17.

Docket Numbers: ER17-1338-000.

Applicants: Western Massachusetts Electric Company.

Description: § 205(d) Rate Filing: Two Party Interconnection Agreement with Nautilus Hydro for Indian Orchard to be effective 3/29/2017.

Filed Date: 3/29/17.

Accession Number: 20170329-5255.

Comments Due: 5 p.m. ET 4/19/17.

Docket Numbers: ER17-1339-000.

Applicants: Western Massachusetts Electric Company.

Description: § 205(d) Rate Filing: Two Party Interconnection Agreement with Nautilus Hydro for Putts Bridge to be effective 3/29/2017.

Filed Date: 3/30/17.

Accession Number: 20170330-5000.

Comments Due: 5 p.m. ET 4/20/17.

Docket Numbers: ER17-1340-000.

Applicants: Western Massachusetts Electric Company.

Description: § 205(d) Rate Filing: Two Party Interconnection Agreement with Nautilus Hydro for Red Bridge to be effective 3/29/2017.

Filed Date: 3/30/17.

Accession Number: 20170330-5001.

Comments Due: 5 p.m. ET 4/20/17.

Docket Numbers: ER17-1341-000.

Applicants: Southwest Power Pool, Inc.

Description: § 205(d) Rate Filing: 3313 WAPA & Grand Electric Coop Interconnection Agreement to be effective 3/1/2017.

Filed Date: 3/30/17.

Accession Number: 20170330-5005.

Comments Due: 5 p.m. ET 4/20/17.

Docket Numbers: ER17-1342-000.

Applicants: Duke Energy Florida, LLC

Description: § 205(d) Rate Filing: Joint OATT Real Power Loss (DEF) 2017 to be effective 5/1/2017.

Filed Date: 3/30/17.

Accession Number: 20170330-5036.

Comments Due: 5 p.m. ET 4/20/17.

Docket Numbers: ER17-1343-000.

Applicants: Midcontinent Independent System Operator, Inc.

Description: § 205(d) Rate Filing: 2017-03-30_SA 1136 NSP-GM GIA (G171 G242 G239 J554) to be effective 3/16/2017.

Filed Date: 3/30/17.

Accession Number: 20170330-5091.

Comments Due: 5 p.m. ET 4/20/17.

Docket Numbers: ER17-1344-000.

Applicants: Public Service Company of Colorado.

Description: § 205(d) Rate Filing: OATT Attach T—Form of Svc Agrmt for BAAS to be effective 5/30/2017.

Filed Date: 3/30/17.

Accession Number: 20170330-5095.

Comments Due: 5 p.m. ET 4/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2017.
Kimberly D. Bose,
Secretary.

[FR Doc. 2017-06839 Filed 4-5-17; 8:45 am]

BILLING CODE 6717-01-P